DEPARTMENT OF ENERGY

Federal Energy Regulatory Commission

Combined Notice of Filings #1

Take notice that the Commission received the following electric rate filings:

Docket Numbers: ER11-4303-000.

Applicants: New York Independent System Operator, Inc.

Description: New York Independent System Operator, Inc. submits tariff filing per 35.13(a)(2)(iii: NYISO filing re: Voltage Support Service to be effective 10/11/2011.

Filed Date: 08/12/2011.

Accession Number: 20110812-5170.

Comment Date: 5 p.m. Eastern Time on Friday, September 02, 2011.

Docket Numbers: ER11-4304-000.

Applicants: Golden Spread Electric Cooperative, Inc.

Description: Golden Spread Electric Cooperative, Inc. submits tariff filing per 35.1: Initial Tariff Filing to be effective 10/12/2011.

Filed Date: 08/12/2011.

Accession Number: 20110812-5171.

Comment Date: 5 p.m. Eastern Time on Friday, September 02, 2011.

Docket Numbers: ER11-4305-000.

Applicants: Midwest Independent Transmission System Operator, Inc.

Description: Midwest Independent Transmission System Operator, Inc. submits tariff filing per 35.13(a)(2)(iii: 08-12-11 ITC Attachment FF Correction to be effective 7/28/2010.

Filed Date: 08/12/2011.

Accession Number: 20110812-5172.

Comment Date: 5 p.m. Eastern Time on Friday, September 02, 2011.

Docket Numbers: ER11-4306-000.

Applicants: Ameren Illinois Company.

Description: Ameren Illinois Company submits tariff filing per 35.15: Cancellation of Rate Schedule 113 to be effective 12/31/9998.

Filed Date: 08/12/2011.

Accession Number: 20110812-5173.

Comment Date: 5 p.m. Eastern Time on Friday, September 02, 2011.

Docket Numbers: ER11-4307-000.

Applicants: Green Mountain Energy Company.

Description: Green Mountain Energy Company submits tariff filing per 35.12: Green Mountain Energy Company Application for Market-Based Rate Authority to be effective 10/11/2011.

Filed Date: 08/12/2011.

Accession Number: 20110812-5180.

Comment Date: 5 p.m. Eastern Time on Friday, September 02, 2011.

Docket Numbers: ER11-4308-000.

Applicants: Reliant Energy Northeast LLC.

Description: Reliant Energy Northeast LLC submits tariff filing per 35.12: Reliant Energy Northeast Application for Market-Based Rate Authority to be effective 10/11/2011.

Filed Date: 08/12/2011.

Accession Number: 20110812-5189.

Comment Date: 5 p.m. Eastern Time on Friday, September 02, 2011.

Docket Numbers: ER11-4309-000.

Applicants: Troy Energy, LLC.

Description: Troy Energy, LLC submits tariff filing per 35: Revisions to Market-Based Rate Tariff of Troy Energy to be effective 8/16/2011.

Filed Date: 08/15/2011.

Accession Number: 20110815-5052.

Comment Date: 5 p.m. Eastern Time on Tuesday, September 06, 2011.

Take notice that the Commission received the following electric reliability filings.

Docket Numbers: RD11-9-000.

Applicants: North American Electric Reliability Corporation.

Description: Petition of the North American Electric Reliability Corporation for Approval of an Interpretation to Requirement R10 of Reliability Standard TOP-002-2a—Normal Operations Planning.

Filed Date: 04/15/2011.

Accession Number: 20110415-5289.

Comment Date: 5 p.m. Eastern Time on Wednesday, September 14, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2011.
Nathaniel J. Davis, Sr.,
Deputy Secretary.

[FR Doc. 2011-21355 Filed 8-19-11; 8:45 am]

BILLING CODE 6717-01-P